DEPARTMENT OF TRANSPORTATION

Federal Aviation Administration

14 CFR Part 71

[Docket No. FAA-2003-15454; Airspace Docket No. 03-ACE-52]

Modification of Class E Airspace; Wichita Mid-Continent Airport, KS

AGENCY: Federal Aviation Administration (FAA), DOT.

ACTION: Direct final rule; request for comments; correction.

SUMMARY: This action corrects a direct final rule; request for comments that was published in the Federal Register on Tuesday, July 15, 2003, (68 FR 41691) [FR Doc. 03-17766]. It corrects an error in the McConnell Air Force Base (AFB) airport reference point.

DATES: This direct final rule is effective on 0901 UTC, October 30, 2003.

FOR FURTHER INFORMATION CONTACT: Kathy Randolph, Air Traffic Division, Airspace Branch, ACE-520C, DOT Regional Headquarters Building, Federal Aviation Administration, 901 Locust, Kansas City, MO 64106; telephone: (816) 329-2525.

SUPPLEMENTARY INFORMATION:

History

Federal Register Document 03-17766, published on Tuesday, July 15, 2003, (68 FR 41691) modified Class E airspace at Wichita Mid-Continent Airport, KS. The modification was to provide the appropriate Class E airspace to protect aircraft executing newly developed instrument approach procedures at Cessna Aircraft Field, Wichita, KS, to correct discrepancies in the Wichita Mid-Continent Airport, KS Class E airspace area and to bring the legal description into compliance with FAA Order 7400.2E, Procedures for Handling Airspace Matters. This Class E airspace area is defined, in part, by the McConnell AFB airport reference point. On August 4, 2003, a revised McConnell AFB airport reference point was published. This correction incorporates the revised McConnell AFB airport reference point into the Wichita Mid-Continent Airport, KS Class E airspace area and its legal description.

Accordingly, pursuant to the authority delegated to me, the Wichita Mid-Continent Airport, KS Class E airspace, as published in the Federal Register on Tuesday, July 15, 2003, (68 FR 41691), [FR Doc. 03-17766] is corrected as follows:

§ 71.1 [Corrected]

On page 41692, Column 2, paragraph headed “ACE KS E5 Wichita Mid-Continent Airport, KS,” sixth and seventh lines, change:

“Wichita McConnell Air Force Base, KS

(Lat. 37°37′33″ N., long. 97°16′03″ W.)”

to read “miles south of the airport.”

“Wichita McConnell Air Force Base, KS

(Lat. 37°37′23″ N., long. 97°16′24″ W.)”

Issued in Kansas City, MO, on August 11, 2003.
Herman J. Lyons, Jr.
Manager, Air Traffic Division, Central Region.

[FR Doc. 03-21458 Filed 8-20-03; 8:45 am]

BILLING CODE 4910-13-M